DEPARTMENT OF COMMERCE

National Oceanic and Atmospheric Administration

[RTID 0648-XD464]

North Pacific Fishery Management Council; Public Meeting

AGENCY: National Marine Fisheries Service (NMFS), National Oceanic and Atmospheric Administration (NOAA), Commerce.

ACTION: Notice of hybrid meeting.

SUMMARY: The North Pacific Fishery Management Council (Council) Bering Sea Fishery Ecosystem Plan Climate Change Taskforce (BSFEP CC) will meet November 1, 2023 through November 2, 2023.

DATES: The meeting will be held on Wednesday, November 1, 2023, from 1 p.m. to 5 p.m. and on Thursday, November 2, 2023, from 9 a.m. to 5 p.m., Pacific time.

ADDRESSES:

Meeting address: The meeting will be a hybrid meeting. The in-person component of the meeting will be held at the Alaska Fishery Science Center in Room 2079, 7600 Sand Point Way NE, Building 4, Seattle, WA 98115.

If you plan to attend in-person you need to notify Diana Stram (diana.stram@noaa.gov) at least two days prior to the meeting (or two weeks prior if you are a foreign national). You will also need a valid U.S. Identification Card. If you are attending virtually, join the meeting online through the link at https://meetings.npfmc.org/Meeting/Details/3016.

Council address: North Pacific Fishery Management Council, 1007 W 3rd Ave., Suite 400, Anchorage, AK 99501-2252; telephone: (907) 271-2809. Instructions for attending the meeting are given under SUPPLEMENTARY INFORMATION, below.

FOR FURTHER INFORMATION CONTACT: Dr. Diana Stram, Council staff; phone; (907) 271-2809 and email: diana.stram@noaa.gov. For technical support, please contact our administrative staff; email: npfmc.admin@noaa.gov.

SUPPLEMENTARY INFORMATION:

Agenda

Wednesday, November 1, 2023, Through Thursday, November 2, 2023

The agenda will include: (a) an overview on Climate ecosystems and fisheries initiative; (b) overview on IRA funding; (c) overview of Alaska Climate Integrated Modeling and Alaska Dashboard Adaptation Planning Tools; (d) summary of CCTF member survey feedback on climate scenario planning workshop plans; (e) recommended approach for Climate Scenario Planning Workshop; (f) research priorities; (g) future plans; and (h) and other business. The agenda is subject to change, and the latest version will be posted at https://meetings.npfmc.org/Meeting/Details/3016 prior to the meeting, along with meeting materials.

Connection Information

You can attend the meeting online using a computer, tablet, or smart phone; or by phone only. Connection information will be posted online at: https://meetings.npfmc.org/Meeting/Details/3016.

Public Comment

Public comment letters will be accepted and should be submitted electronically to https://meetings.npfmc.org/Meeting/Details/3016.

Authority: 16 U.S.C. 1801 et seq.

Dated: October 11, 2023.
Rey Israel Marquez,
Acting Deputy Director, Office of Sustainable Fisheries, National Marine Fisheries Service.

[FR Doc. 2023-22827 Filed 10-16-23; 8:45 am]

BILLING CODE 3510-22-P